DEPARTMENT OF ENERGY

[Docket No. 18-26-LNG]

Freeport LNG Expansion, L.P. & FLNG Liquefaction 4, LLC; Request for Extension of Export Commencement Deadline

AGENCY: Office of Fossil Energy and Carbon Management, Department of Energy.

ACTION: Notice of request.

SUMMARY: The Office of Fossil Energy and Carbon Management (FECM) (formerly the Office of Fossil Energy (FE)) of the Department of Energy (DOE) gives notice (Notice) of receipt of a request (Request), filed on June 23, 2025, by Freeport LNG Expansion, L.P. and FLNG Liquefaction 4, LLC (collectively, FLEX4). FLEX4 requests to amend its existing authorization to export domestically produced liquefied natural gas (LNG) to non-free trade agreement countries set forth in DOE/FE Order No. 4374 (as amended)—specifically, to extend the current export commencement deadline in its order. FLEX4 filed the Request under the Natural Gas Act (NGA).

DATES: Protests, motions to intervene, or notices of intervention, as applicable, and written comments are to be filed electronically as detailed in the Public Comment Procedures section no later than 4:30 p.m., Eastern time, August 8, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov.

SUPPLEMENTARY INFORMATION: On May 28, 2019, in DOE/FE Order No. 4374 (as amended),¹ DOE authorized FLEX4 to export domestically produced LNG by vessel from its proposed fourth natural gas liquefaction train and pretreatment unit, as well as associated infrastructure (Train 4 Project), to be located at the Freeport LNG Terminal on Quintana Island near Freeport, Texas, to any country with which the United States has not entered into a free trade agreement (FTA) requiring national treatment for trade in natural gas, and with which trade is not prohibited by U.S. law or policy (non-FTA countries).² FLEX4 is authorized to export this LNG in a volume equivalent to 262.8 billion cubic feet per year (Bcf/yr) of natural gas for a term extending through December 31, 2050.³

¹ Freeport LNG Expansion, L.P. and FLNG Liquefaction 4, LLC, DOE/FE Order No. 4374, Docket No. 18-26-LNG, Opinion and Order Granting Long-Term Authorization to Export Liquefied Natural Gas to Non-Free Trade Agreement Nations (May 28, 2019), amended by DOE/FE Order No. 4374-A (Oct. 21, 2020) (extending export term).

² 15 U.S.C. 717b(a).

³ Freeport LNG Expansion, L.P. and FLNG Liquefaction 4, LLC, DOE/FE Order No. 4374, as amended by DOE/FE Order No. 4374-A.

As relevant here, Order No. 4374 requires FLEX4 to “commence export operations using the planned liquefaction facilities no later than seven years from the date of issuance of this Order”—i.e., by May 28, 2026.⁴ In the Request, FLEX4 asks DOE to grant an extension of the export commencement deadline in its non-FTA authorization, “so that it may commence export operations from the Train 4 Project by no later than December 1, 2031.” ⁵

⁴ Freeport LNG Expansion, L.P. and FLNG Liquefaction 4, LLC, DOE/FE Order No. 4374, at 53 (Ordering Para. D).

⁵ Freeport LNG Expansion, L.P. and FLNG Liquefaction 4, LLC, Request for Extension of Export Commencement Deadline, Docket No. 18-26-LNG, at 6 (June 23, 2025) (emphasis in original) [hereinafter Request]; see also id. at 1-2.

In support of this Request, FLEX4 asserts that it is unable to meet the current export commencement deadline due to unanticipated circumstances, including an explosion that occurred at the Terminal on June 8, 2022 (June 8 Incident), which resulted in the entire Terminal being taken offline. FLEX4 further states that, on June 18, 2025, FLNG Liquefaction 4, LLC (FLIQ4), together with FLEX4's affiliate Freeport LNG Development, L.P. (Freeport LNG), applied to the Federal Energy Regulatory Commission (FERC) for an extension of the existing construction and in-service deadline for the Train 4 Project to December 1, 2031 (the same date as requested in this proceeding).⁶ FLEX4 also identifies the actions it has taken to date towards restoring and returning the Terminal to service and the development of the Train 4 Project. FLEX4 maintains that the Request “does not affect any requirements of its non-FTA authorization beyond providing for additional time to commence export operations.” ⁷

⁶ Id. at 3. FLEX4 states that Freeport LNG and FLIQ4 previously have received two extensions of time from FERC to complete construction and place the Train 4 Project in service. See id. at 2. The third extension request filed on June 18, 2025, is currently pending at FERC and will “account for delays to the Train 4 Project schedule resulting from the June 8 Incident-related restoration activities.” Id. at 3.

⁷ Id. at 5.

Additional details can be found in the Request, posted on the DOE website at https://www.energy.gov/sites/default/files/2025-06/FLEX4%20Request%20for%20Extension.pdf.

DOE Evaluation

In reviewing the Request, DOE will consider any issues required by law or policy under NGA section 3(a), DOE's regulations, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Request. Interested parties will be provided 30 days from the date of publication of this Notice in the Federal Register in which to submit comments, protests, motions to intervene, or notices of intervention. The public previously was given an opportunity to intervene in, protest, and comment on FLEX4's long-term non-FTA application in this docket. Therefore, DOE will not consider comments or protests that do not bear directly on this Request.

Any person wishing to become a party to this proceeding evaluating FLEX4's Request must file a motion to intervene or notice of intervention.⁸ The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

⁸ Status as an intervenor in prior proceeding(s) in this docket does not continue to this proceeding evaluating FLEX4's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 18-26-LNG” or “FLEX4 Request for Extension” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on July 3, 2025.
Amy Sweeney,
Director, Office of Regulation, Analysis, and Engagement, Office of Resource Sustainability.

[FR Doc. 2025-12764 Filed 7-8-25; 8:45 am]

BILLING CODE 6450-01-P